DEPARTMENT OF THE INTERIOR

Bureau of Land Management

[NV-910-01-0777XX-241A]

Sierra Front/Northwestern Great Basin Resource Advisory Council, Northeastern Great Basin Resource Advisory Council, and Mojave-Southern Great Basin Resource Advisory Council—Notice of Meeting Locations and Times

AGENCY: Bureau of Land Management, Interior.

ACTION: Combined Resource Advisory Council Meeting locations and times.

SUMMARY: In accordance with the Federal Land Policy and Management Act and the Federal Advisory Committee Act of 1972 (FACA), the Department of the Interior, Bureau of Land Management (BLM) Council meetings will be held as indicated below. Topics for discussion will be a presentation and discussion of accomplishments during 2001 and the outlook for 2002 of the BLM in Nevada; opening and closeout reports of the three Resource Advisory Councils (RACs); discussion of acquisitions proposed to be funded by the Southern Nevada Public Land Management Act of 1998; breakout meetings of the “pods'; breakout meetings of the three RACs; setting of schedules for meetings of the individual RACs for the coming year, and other issues members of the councils may raise.

All meetings are open to the public. During the two noon luncheons, members of the public may join the group for lunch, at their own expense. The public may present written comments to the three-RAC group or the individual RACs. The public comment period for the council meeting will be at 3 p.m. on Thursday, November 8. Individuals who plan to attend and need further information about the meeting or need special assistance such as sign language interpretation or other reasonable accommodations, should contact Robert Stewart at the Nevada State Office, BLM, 1340 Financial Blvd., Reno, telephone (775) 861-6586.

Date, Time: The council will meet on Thursday, November 8 from 8 a.m. to 4:30 p.m. and Friday, November 9, 2001, from 8 a.m. to 3 p.m., at the Elko Convention Center, Elko, Nevada. If due to unforeseeable problems this site is not available, the alternate site of the meeting will be determined at that time, and will be in Elko, Nevada. The meeting may be cancelled if an alternate site is not available. The dates and times will remain the same. Public comment will be received at the discretion of the State Director, as meeting moderator, with a general public comment period on Thursday, November 8, 2001 at 3 p.m.

FOR FURTHER INFORMATION CONTACT: Robert Stewart, Public Information Specialist, BLM Nevada State Office, 1340 Financial Blvd., Reno, Nevada, telephone (775) 861-6586.

Dated: August 27, 2001.
Robert V. Abbey,
State Director, Nevada.

[FR Doc. 01-28610 Filed 11-14-01; 8:45 am]

BILLING CODE 4310-HC-P